DEPARTMENT OF COMMERCE

National Oceanic and Atmospheric Administration

RIN 0648-XD676

South Atlantic Fishery Management Council; Public Meetings

AGENCY: National Marine Fisheries Service (NMFS), National Oceanic and Atmospheric Administration (NOAA), Commerce.

ACTION: Notice of a public meeting.

SUMMARY: The South Atlantic Fishery Management Council (SAFMC) and Gulf of Mexico Fishery Management Council (GMFMC) will hold a meeting of their Joint Council Committee on South Florida Management Issues (Committee).

DATES: The Committee meeting will be held from 9 a.m. on Tuesday, January 13, 2015 until 12 noon on Thursday, January 15, 2015.

ADDRESSES:

Meeting Address: The meeting will be held at the Key West Marriott Beachside Hotel, 3841 N. Roosevelt Blvd., Key West, FL; phone: (305) 296-8100.

South Atlantic Fishery Management Council Address: South Atlantic Fishery Management Council, 4055 Faber Place Drive, Suite 201, N. Charleston, SC 29405.

Gulf of Mexico Fishery Management Council Address: 2203 N. Lois Ave., Suite 1100, Tampa, FL 33607.

FOR FURTHER INFORMATION CONTACT: Robert Mahood, Executive Director, SAFMC; phone: (843) 571-4366 or toll free: (866) SAFMC-10; fax: (843) 769-4520; email: Robert.mahood@safmc.net.

SUPPLEMENTARY INFORMATION: The Committee will meet from 9 a.m. until 5 p.m. on January 13-14, 2015 and from 9 a.m. until 12 noon on January 15, 2015. The items of discussion are as follows:

The Committee will receive an update on the status of draft Amendment 35 to the Snapper Grouper Fishery Management Plan (FMP) for the South Atlantic that includes measures to remove black snapper, dog snapper, mahogany snapper, and schoolmaster from the FMP. The Committee will then review the Draft Joint Amendment to the FMP for the Reef Fish Resources of the Gulf of Mexico and the FMP for the Snapper Grouper Resources of the South Atlantic Region. The draft amendment is being developed by the Committee and includes actions to modify both the Gulf of Mexico Reef Fish FMP and the Snapper Grouper FMP for the South Atlantic. The draft amendment includes options to: delegate management of black grouper, mutton snapper and yellowtail snapper to the Florida Fish and Wildlife Conservation Commission (FWC); specify allocations of mutton snapper and black grouper to the State of Florida with bycatch allowances for other Gulf and South Atlantic states; modifications to the bag limit and commercial trip limits for mutton snapper in the Gulf of Mexico and South Atlantic; modify the black grouper bag limit and implement a recreational spawning season closure; specify accountability measures specifically for South Florida species (yellowtail snapper, mutton snapper and black grouper); modify the shallow-water grouper species compositions and seasonal closures in the Gulf of Mexico and South Atlantic; and options to modify the current circle hook requirements in the Gulf and South Atlantic.

The Committee will continue to review and modify the draft amendment. Additional presentations will be provided relative to the management boundaries and responsibility for hogfish, a progress report on speckled hind and warsaw grouper management, and the status of the goliath grouper stock assessment. The Committee will discuss these issues and provide recommendations.

Public comment will be accepted at the end of each meeting day. Written comments will be accepted prior the beginning of the Committee meeting and should be mailed to Robert Mahood, South Atlantic Fishery Management Council, 4055 Faber Place Drive, Suite 201, N. Charleston, SC 29406 or emailed to mike.collins@safmc.net. Briefing materials will be posted on both the SAFMC Web site at www.safmc.net and the GMFMC Web site at www.gulfcouncil.org by January 7, 2015.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: December 22, 2014.
Tracey L. Thompson,
Acting Deputy Director, Office of Sustainable Fisheries, National Marine Fisheries Service.

[FR Doc. 2014-30280 Filed 12-29-14; 8:45 am]

BILLING CODE 3510-22-P